DEPARTMENT OF AGRICULTURE

Natural Resources Conservation Service

Kelly Creek Watershed—Barry and Lawrence Counties, MO

AGENCY: Natural Resources Conservation Service.

ACTION: Notice of a Finding of No Significant Impact.

SUMMARY: Pursuant to Section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the Kelly Creek Watershed—Barry and Lawrence Counties, Missouri.

FOR FURTHER INFORMATION CONTACT: Roger A. Hansen, State Conservationist, Natural Resources Conservation Service, Parkade Center Suite 250, 601 Business Loop 70 West, Columbia, Missouri, 65203, (573) 876-0901.

SUPPLEMENTARY INFORMATION: The environmental assessment of this federally assisted action indicates that the project will not cause significant adverse local, regional, or national impacts on the environment. As a result of these findings, Roger A. Hansen, State Conservationist, has determined that the preparation and review of an environmental impact statement are not needed for this project.

The project purposes are flood damage reduction and recreational development of flood plain areas adjacent to Kelly Creek. The planned works of improvement include one single-purpose floodwater retarding structure and development of greenway, natural, and wildlife areas in the flood plain adjacent to Kelly Creek

The Notice Of A Finding Of No Significant Impact (FONSI) has been forwarded to the Environmental Protection Agency and to various federal, state, and local agencies and interested parties. A limited number of copies of the FONSI are available to fill single copy requests at teh above address. Basic data developed during the environmental assessment are on file and may be reviewed by contacting Harold L. Deckerd, Assistant State Conservationist at (573) 876-0900.

No administrative action on implementation of the proposal will be taken until 30 days after the date of this publication in the Federal Register.

(This activity is listed in the Catalog of Federal Domestic Assistance under No. 10.904, Watershed Protection and Flood Prevention, andis subject to the provisions of Executive Order 12372, which requires intergovernmental consultation with State and local officials.)
Roger A. Hansen,
State Conservationist.

[FR Doc. 02-10254 Filed 4-25-02; 8:45 am]

BILLING CODE 3410-16-M